DEPARTMENT OF THE INTERIOR

Bureau of Land Management

[LLUTG01100-09-L13100000-EJ0000]

Notice of Intent To Prepare an Environmental Impact Statement for the Greater Chapita Wells Natural Gas Infill Project, Uintah County, UT

AGENCY: Bureau of Land Management, Interior.

ACTION: Notice of intent.

SUMMARY: The Bureau of Land Management (BLM), Vernal Field Office, Vernal, Utah, intends to prepare an Environmental Impact Statement (EIS) for the proposed Greater Chapita Wells Natural Gas Infill Project, and by this notice is announcing the beginning of the scoping process and soliciting input on the identification of issues.

DATES: A public scoping period will end on October 9, 2009. The BLM will announce public scoping meetings to identify relevant issues through local news media, newsletters, and the BLM Web site http://www.blm.gov/ut/st/en/info/newsroom.2.html at least 15 days prior to each meeting. We will provide additional opportunities for public participation upon publication of the Draft EIS, including a 45-day public comment period.

ADDRESSES: Comments on issues related to the Greater Chapita Wells EIS may be submitted through any of the following methods:

• E-mail: UT_Vernal_Comments@blm.gov.

• Fax: (435) 781-4410.

• Mail: 170 South 500 East, Vernal, Utah 84078.

Documents pertinent to this proposal may be examined at the Vernal Field Office.

FOR FURTHER INFORMATION CONTACT: For further information and/or to have your name added to the mailing list, contact Stephanie Howard by telephone: (435) 781-4469; or e-mail: Stephanie_Howard@blm.gov.

SUPPLEMENTARY INFORMATION: This document provides notice that the BLM Field Office, Vernal, Utah intends to prepare an EIS for the Greater Chapita Wells project and announces the beginning of the scoping process and seeks public input on issues and planning criteria. The Greater Chapita Wells Natural Gas Infill Project Area (GCWPA) consists of 42,027 acres in a developed gas-producing area, located approximately 30 miles southeast of Vernal and 12 miles east of Ouray, Utah. The GCWPA is located in the Uinta Basin in Uintah County. The GCWPA includes 32,823 acres (78 percent) of Federal lands administered by the BLM; 1,914 acres (five percent) of State lands administered by the State of Utah School and Institutional Trust Lands Administration; 6,727 acres (16 percent) of Northern Ute Tribal and allotted lands administered by the Bureau of Indian Affairs; and 563 acres (one percent) of privately owned lands.

EOG Resources, Inc. (EOG) plans to drill up to 7,028 new infill natural gas wells to fully develop all currently known productive formations beneath EOG's leased acreage. EOG proposes to drill wells at an average rate of approximately 469 wells per year over a period of 15 years, or until the resource base is fully developed. The productive life of each well would be approximately 40 years, and EOG expects all wells to be productive. EOG would use the existing infrastructure to the greatest possible extent by drilling vertical and directional wells. Well pads within the GCWPA would contain from one to six wells, with most well pads containing more than one well. EOG would construct up to approximately 700 new well pads and access roads and would expand approximately 979 existing or previously authorized well pads. If fully developed, each section would contain 32 well pads such that optimal surface density would be one well pad every 20 acres. EOG would directionally drill wells to produce from bottom hole locations spaced at approximately five to 10 acres.

The project would be supported by existing produced water disposal and treatment facilities, produced water pipelines, natural gas pipelines, and gas compression and processing facilities. EOG would construct and install support facilities where needed, including new well pad access roads, new or expanded well pads, new gas-gathering lines, and new produced water-injection wells.

Potential issues include impacts to local and regional air quality and air quality related values; surface water and groundwater resources; floodplains; cultural and paleontological resources; soils; special status plant and animal species; range management; recreation; and socioeconomics. Alternatives identified at this time include the proposed action and the no action alternative. Additional alternatives will be developed as a result of issues and concerns identified through the scoping process.

The BLM Vernal Field Office Record of Decision and Approved Resource Management Plan (RMP) (October 2008) directs the management of the BLM-administered public lands within the GCWPA. The RMP provides for energy resource exploration and development including a variety of oil and gas operations and geophysical explorations, unless precluded by other program prescriptions and surface-disturbance related stipulations (RMP, pp. 96 and 97).

Comments on issues and planning criteria may be submitted in writing to the BLM at any public scoping meeting, or using one of the methods listed in the ADDRESSES section above. To be most helpful, comments should be submitted by the end of the public scoping period (within 30 days from the BLM's publication in the Federal Register). Before including an address, phone number, e-mail address, or other personal identifying information in your comment, be aware that the entire comment—including personal identifying information—may be made publicly available at any time. While a request can be made to withhold personal identifying information from public review, it cannot be guaranteed.

Jeff Rawson,
Acting State Director.

[FR Doc. E9-21661 Filed 9-8-09; 8:45 am]

BILLING CODE 4310-DQ-P